DEPARTMENT OF TRANSPORTATION

Federal Aviation Administration

14 CFR Part 71

[Docket No. FAA-2019-0893; Airspace Docket No. 18-ASW-13]

RIN 2120-AA66

Amendment of VOR Federal Airways V-18, V-54, V-114, and V-583 in the Vicinity of Quitman, TX

AGENCY: Federal Aviation Administration (FAA), DOT.

ACTION: Final rule.

SUMMARY: This action amends VHF Omnidirectional Range (VOR) Federal airways V-18, V-54, V-114, and V-583 in the vicinity of Quitman, TX. The modifications are necessary due to the planned decommissioning of the VOR portion of the Quitman, TX, VOR/Distance Measuring Equipment (VOR/DME) navigation aid (NAVAID), which provides navigation guidance for portions of the affected airways. The Quitman VOR is being decommissioned as part of the FAA's VOR Minimum Operational Network (MON) program.

DATES: Effective date 0901 UTC, September 10, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11D at NARA, email: fedreg.legal@nara.gov or go to https://www.archives.gov/federal-register/cfr/ibr-locations.html.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the route structure as necessary to preserve the safe and efficient flow of air traffic within the National Airspace System.

History

The FAA published a notice of proposed rulemaking for Docket No. FAA-2019-0893 in the Federal Register (84 FR 67881; December 12, 2019), amending VHF Omnidirectional Range (VOR) Federal airways V-18, V-54, V-114, and V-583 in the vicinity of Quitman, TX, due to the planned decommissioning of the VOR portion of the Quitman, TX, VOR/DME. Interested parties were invited to participate in this rulemaking effort by submitting written comments on the proposal. No comments were received.

Subsequent to the NPRM, the FAA published a rule for Docket No. FAA-2018-1028 in the Federal Register (85 FR 13731; March 10, 2020), amending VOR Federal airway V-18 by removing the airway segment between the Vulcan, AL, VORTAC and the Colliers, SC, VORTAC. That airway amendment was effective May 21, 2020. The FAA published a second rule subsequent to the NPRM for Docket No. FAA-2020-0006 in the Federal Register (85 FR 25285, May 1, 2020), further amending V-18 by removing the airway segment between the Millsap, TX, VORTAC and the Cedar Creek, TX, VORTAC. That airway amendment was effective July 16, 2020. These airway amendments are included in this rule.

Additionally, subsequent to the NPRM, the FAA published a rule for Docket No. FAA-2020-0010 in the Federal Register (85 FR 27114; May 7, 2020), amending VOR Federal airway V-583 by removing the airway segment between the Paris, TX, VOR/DME and the McAlester, OK, VORTAC. That airway amendment, effective July 16, 2020, is included in this rule.

VOR Federal airways are published in paragraph 6010(a) of FAA Order 7400.11D dated August 8, 2019, and effective September 15, 2019, which is incorporated by reference in 14 CFR 71.1. The VOR Federal airways listed in this document would be subsequently published in the Order.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

Differences From the Proposal

The Choo Choo VOR/Tactical Air Navigation (VORTAC) NAVAID listed in the V-54 description is actually located in Chattanooga, Tennessee. As such, the state abbreviation for the NAVAID listed in the description should reflect the abbreviation “TN” instead of “GA”. This editorial correction to the V-54 description is included in this action.

The Rule

The FAA is amending Title 14 Code of Federal Regulations (14 CFR) part 71 by modifying VOR Federal airways V-18, V-54, V-114, and V-583. The planned decommissioning of the VOR portion of the Quitman, TX, VOR/DME NAVAID has made this action necessary. The VOR Federal airway changes are outlined below.

V-18: V-18 extends between the Cedar Creek, TX, VORTAC and the Vulcan, AL, VORTAC; and between the Colliers, SC, VORTAC and the Charleston, SC, VORTAC. The airway segment between the Cedar Creek, TX, VORTAC and the Belcher, LA, VORTAC is removed. The unaffected portions of the existing airway remain as charted.

V-54: V-54 extends between the Waco, TX, VORTAC and the Kinston, NC, VORTAC. The airway segment between the Cedar Creek, TX, VORTAC and the Texarkana, AR, VORTAC is removed. Additionally, an editorial correction changes the state abbreviation for the Choo Choo VORTAC listed in the description from “GA” to “TN”. The unaffected portions of the existing airway remain as charted.

V-114: V-114 extends between the Panhandle, TX, VORTAC and the Eaton, MS, VORTAC, excluding the portion within restricted areas R-3801B and R-3701C when active. The airway segment between the Bonham, TX, VORTAC and the Gregg County, TX, VORTAC is removed. The unaffected portions of the existing airway remain as charted.

V-583: V-583 extends between the Centex, TX, VORTAC and the Paris, TX, VOR/DME. The airway segment between the Frankston, TX, VOR/DME and the Paris, TX, VOR/DME is removed. The unaffected portions of the existing airway remain as charted.

All radials in the route descriptions below are unchanged and stated in True degrees.

FAA Order 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of modifying VOR Federal airways V-18, V-54, V-114, and V-583 due to the planned decommissioning of the VOR portion of the Quitman, TX, VOR/DME NAVAID qualifies for categorical exclusion under the National Environmental Policy Act and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019 and effective September 15, 2019, is amended as follows:

Paragraph 6010(a) Domestic VOR Federal Airways.

* * * * *

V-18 [Amended]

From Belcher, LA; Monroe, LA; Magnolia, MS; Meridian, MS; Crimson, AL; to Vulcan, AL. From Colliers, SC; to Charleston, SC.

* * * * *

V-54 [Amended]

From Waco, TX; to Cedar Creek, TX. From Texarkana, AR; INT Texarkana 052° and Little Rock, AR, 235° radials; Little Rock; Marvell, AR; Holly Springs, MS; Muscle Shoals, AL; Rocket, AL; Choo Choo, TN; Harris, GA; Spartanburg, SC; Charlotte, NC; Sandhills, NC; INT Sandhills 146° and Fayetteville, NC, 267° radials; Fayetteville; to Kinston, NC.

* * * * *

V-114 [Amended]

From Panhandle, TX; Childress, TX; Wichita Falls, TX; to Bonham, TX. From Gregg County, TX; Alexandria, LA; INT Fighting Tiger, LA, 307° and Lafayette, LA, 042° radials; 7 miles wide (3 miles north and 4 miles south of centerline); Fighting Tiger; INT Fighting Tiger 112° and Reserve, LA, 323° radials; Reserve; INT Reserve 084° and Gulfport, MS, 247° radials; Gulfport; INT Gulfport 344° and Eaton, MS, 171° radials; to Eaton, excluding the portion within R-3801B and R-3701C when active.

* * * * *

V-583 [Amended]

From Centex, TX; INT Centex 061° and College Station, TX, 273° radials; College Station; Leona, TX; to Frankston, TX.

* * * * *

Issued in Washington, DC, on June 16, 2020.
Scott M. Rosenbloom,
Acting Manager, Rules and Regulations Group.

[FR Doc. 2020-13337 Filed 6-22-20; 8:45 am]

BILLING CODE 4910-13-P